DEPARTMENT OF LABOR

Employment and Training Administration

[TA-W-59,987]

Nypro-Kentucky, Hazard Division, Hazard, KY; Notice of Termination of Investigation

Pursuant to Section 221 of the Trade Act of 1974, as amended, an investigation was initiated on August 31, 2006, in response to a petition filed by a company official on behalf of workers at Nypro-Kentucky, Hazard Division, Hazard, Kentucky.

The petitioner has requested that the petition be withdrawn. Consequently, the investigation has been terminated.

Signed at Washington, DC, this 7th day of September, 2006.
Linda G. Poole,
Certifying Officer, Division of Trade Adjustment Assistance.

[FR Doc. E6-15110 Filed 9-12-06; 8:45 am]

BILLING CODE 4510-30-P